DEPARTMENT OF HEALTH AND HUMAN SERVICES

National Institutes of Health

Center for Scientific Review; Amended Notice of Meeting

Notice is hereby given of a change in the meeting of the HIV Comorbidities and Clinical Studies Study Section, July 14, 2020, 08:00 a.m. to July 15, 2020, 06:00 p.m., National Institutes of Health, Rockledge II, 6701 Rockledge Drive, Bethesda, MD 20892, which was published in the Federal Register on June 15, 2020, 85 FR 36223.

This notice is being amended to change the meeting start time from 8:00 a.m. to 06:00 p.m. to 9:00 a.m. to 06:00 a.m. The meeting is closed to the public.

Dated: June 22, 2020.
Miguelina Perez,
Program Analyst, Office of Federal Advisory Committee Policy.

[FR Doc. 2020-13756 Filed 6-25-20; 8:45 am]

BILLING CODE 4140-01-P